DEPARTMENT OF TRANSPORTATION

Surface Transportation Board

[STB Finance Docket No. 33867]

Heart of Georgia Railroad, Inc.—Acquisition and Operation Exemption—State of Georgia and Georgia Southwestern Railroad, Inc.

Heart of Georgia Railroad, Inc. (HOG), a noncarrier, has filed a verified notice of exemption under 49 CFR 1150.31 to acquire and/or operate four contiguous sections of rail line totaling 177.76 miles between Vidalia, GA, and Mahrt, AL, owned by the State of Georgia, Department of Transportation (State), and the Georgia Southwestern Railroad, Inc. (GSWR), as follows: (1) HOG will lease (by assignment of GSWR's rights under a lease with State) State's segment of the rail line between milepost 577.85, at or near Vidalia, and milepost 644.00, at Rochelle, GA, and the .48-mile Abbeville Wye Track, at Abbeville, GA; (2) HOG will acquire the exclusive rail freight easement over GSWR's segment between milepost 644.00, at Rochelle, and milepost 713.00, at or near Preston, GA; (3) HOG will lease State's segment between milepost 713.00, at or near Preston, and milepost 753.00, at Omaha, GA; and (4) HOG will acquire the exclusive rail freight easement over GSWR's segment between milepost 753.00, at Omaha, and milepost 755.13, at Mahrt, AL. All of the segments will be operated by HOG.

The transaction was expected to be consummated shortly after April 26, 2000, the effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33867, must be filed with the Surface Transportation Board, Office of the Secretary, Case Control Unit, 1925 K Street, N.W., Washington, DC 20423-0001. In addition, a copy of each pleading must be served on Thomas F. McFarland, Jr., Esq., McFarland & Herman, 20 North Wacker Drive, Suite 1330, Chicago, IL 60606-2902.

Board decisions and notices are available on our website at “WWW.STB.DOT.GOV.”

Decided: April 27, 2000.
By the Board, David M. Konschnik, Director, Office of Proceedings.
Vernon A. Williams,
Secretary.

[FR Doc. 00-11180 Filed 5-3-00; 8:45 am]

BILLING CODE 4915-00-P